SURFACE TRANSPORTATION BOARD

[Docket No. AB 1247; Docket No. AB 1248]

Buckeye East Chicago Railroad LLC—Abandonment Exemption—in Lake County, Ind.; Landisville Railroad, LLC—Discontinuance Exemption—in Lake County, Ind.

On September 27, 2017, Buckeye East Chicago Railroad LLC (BECR) and Landisville Railroad, LLC (Landisville) (collectively, Petitioners) jointly filed with the Surface Transportation Board (Board) a petition under 49 U.S.C. 10502 for exemption from the prior approval requirements of 49 U.S.C. 10903 to abandon and discontinue, respectively, approximately 1.34 miles of rail line located within the East Chicago Transload Facility (Facility) at or near 400 East Columbus Drive in East Chicago, Lake County, Ind. (the Line). The Line traverses United States Postal Service ZIP Code 46312. Petitioners state the Line does not include stations other than the Facility and does not have milepost designations.

According to Petitioners, Landisville exclusively provides transloading and interchange services on behalf of BECR to a connection with the Indiana Harbor Belt Railroad (IHBR). Petitioners state that Buckeye Terminals, LLC, the operator of the Facility, is the only shipper on the Line. Upon consummation of the proposed transaction, Petitioners state that IHBR would continue to pick up and deliver traffic to the Facility as a common carrier. Petitioners also state that Buckeye Terminals, which will be BECR's successor as owner of the Line, or Landisville, as a private contract operator to Buckeye Terminals, will move cars around the Facility and provide the transload services, but would do so over private track that would no longer be subject to the Board's jurisdiction. Petitioners state that no other customers have requested common carrier service from either BECR or Landisville.

The parties state that Buckeye Partners, as the parent of both BECR and Buckeye Terminals, has consented to and supports the proposed abandonment and discontinuance. Petitioners state that Landisville is also willing to accommodate the abandonment of the Line by seeking discontinuance of its common carrier operating right over the Line.

According to the Petitioners, the Line is stub-ended and therefore may not accommodate overhead traffic. The Petitioners state that, based on information in BECR's and Buckeye Terminals' possession, the Line does not contain federally granted rights-of-way. Any documentation in their possession will be made available promptly to those requesting it.

The interest of railroad employees will be protected by the conditions set forth in Oregon Short Line Railroad—Abandonment Portion Goshen Branch Between Firth & Ammon, in Bingham & Bonneville Counties, Idaho, 360 I.C.C. 91 (1979).

By issuing this notice, the Board is instituting an exemption proceeding pursuant to 49 U.S.C. 10502(b). A final decision will be issued by January 12, 2018.

Any offer of financial assistance (OFA) under 49 CFR 1152.27(b)(2) will be due no later than 10 days after service of a decision granting the petition for exemption. Each OFA must be accompanied by a $1,800 filing fee. See 49 CFR 1002.2(f)(25).

All interested persons should be aware that, following discontinuance and abandonment, the Line may be suitable for other public use, including interim trail use. Any request for a public use condition under 49 CFR 1152.28 or for interim trail use/rail banking under 49 CFR 1152.29 will be due no later than November 6, 2017. Each interim trail use request must be accompanied by a $300 filing fee. See 49 CFR 1002.2(f)(27).

All filings in response to this notice must refer to Docket Nos. AB 1247 and AB 1248 and must be sent to: (1) Surface Transportation Board, 395 E Street SW., Washington, DC 20423-0001; (2) Charles A. Spitulnik, Kaplan Kirsch & Rockwell LLP, 1001 Connecticut Avenue NW., Suite 800, Washington, DC 20036; and (3) Eric M. Hocky, Clark Hill PLC, One Commerce Square, 2005 Market Street, Suite 1000, Philadelphia, PA 19102. Replies to the petition are due on or before November 6, 2017.

Persons seeking further information concerning abandonment or discontinuance procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

An environmental assessment (EA) (or environmental impact statement (EIS), if necessary) prepared by OEA will be served upon all parties of record and upon any agencies or other persons who comment during its preparation. Other interested persons may contact OEA to obtain a copy of the EA (or EIS). EAs in abandonment proceedings normally will be made available within 60 days of the filing of the petition. The deadline for submission of comments on the EA generally will be within 30 days of its service.

Board decisions and notices are available on our Web site at WWW.STB.GOV.

By the Board, Scott M. Zimmerman, Acting Director, Office of Proceedings.
Decided: October 12, 2017.
Tammy Lowery,
Clearance Clerk.

[FR Doc. 2017-22465 Filed 10-16-17; 8:45 am]

BILLING CODE 4915-01-P